DEPARTMENT OF JUSTICE

Antitrust Division

Notice Pursuant to the National Cooperative Research and Production Act of 1993—Interoperability Consortium, Inc.

Notice is hereby given that, on November 30, 2000, pursuant to section 6(a) of the National Cooperative Research and Production Act of 1993, 15 U.S.C. 4301 et seq. (“the Act”), Interoperability Consortium, Inc. (the “Corporation”) has filed written notifications simultaneously with the Attorney General and the Federal Trade Commission disclosing changes in its membership status. The notifications were filed for the purpose of extending the Act's provisions limiting the recovery of antitrust plaintiffs to actual damages under specified circumstances. Specifically, Visa International, Foster City, CA has left the Corporation.

No other changes have been made in either the membership or planned activity of the group research project. Membership in this group research project remains open, and Interoperability Consortium, Inc. intends to file additional written notification disclosing all changes in membership.

On January 13, 2000, Interoperability Consortium, Inc. filed its original notification pursuant to section 6(a) of the Act. The Department of Justice published a notice in the Federal Register pursuant to section 6(b) of the Act on June 21, 2000 (65 FR 38596).

The last notification was filed with the Department on July 20, 2000. A notice was published in the Federal Register pursuant to section 6(b) of the Act on September 13, 2000 (65 FR 55284).

Constance K. Robinson,
Director of Operations, Antitrust Division.

[FR Doc. 01-5720 Filed 3-7-01; 8:45 am]

BILLING CODE 4410-11-M